ENVIRONMENTAL PROTECTION AGENCY

[FRL-8227-1]

Notice of Determination for Dale Hollow Lake To Qualify as a No Discharge Zone

This notice of determination is for all navigable waters of Dale Hollow Lake, located on the border of Kentucky and Tennessee. On March 23, 2006, notice was published that the Army Corps of Engineers (ACOE), State of Kentucky, and State of Tennessee had petitioned the Regional Administrator, Environmental Protection Agency (EPA) to concur with their determinations that adequate and reasonably available pumpout facilities exist on Dale Hollow Lake. Zero comments were received regarding this proposed action.

Therefore, Dale Hollow is designated as No Discharge Zone in accordance with Section 312(f)(3) of Public Law 92-500 as amended by Public Law 95-217 and Public Law 100-4, that adequate facilities for the safe and sanitary removal of sewage from all vessels are reasonably available for the waters of Dale Hollow Lake to qualify as a No Discharge Zone. This action is taken under Section 312(f)(3) of the Clean Water Act which states: “After the effective date of the initial standards and regulations promulgated under this Section, if any State determines that the protection and enhancement of the quality of some or all of the waters within such States require greater environmental protection, such State may completely prohibit the discharge from all vessels of any sewage, whether treated or not into such waters, except that no such prohibition shall apply until the Administrator determines that adequate facilities for the safe and sanitary removal and treatment of sewage from all vessels are reasonably available for such waters to which such prohibition would apply.”

EPA's action allows prohibition regarding discharge from vessels to be applied by the States of Kentucky and Tennessee for Dale Hollow Lake. EPA found the following existing facilities available for pumping out vessel holding tanks on Dale Hollow Lake. Their address, telephone number, hours of operation, and draft are as follows:

(A) Cedar Hill Marina; 2371 Cedar Hill Road, Celina, TN 38551, 931-243-3201, 8 a.m.-4 p.m. 7 days/week, 8′ draft

(B) Dale Hollow Marina; 99 Arlon Webb Dr., Celina, TN 38551, 931-243-2211, 7 a.m.—5 p.m. 7 days/week, floating barge-mobile pumpout

(C) Holly Creek Marina; 7855 Holly Creek Road, Celina, TN 38551, 931-243-2116, 7 a.m.-8 p.m. 7 days/week, floating barge—mobile pumpout

(D) Sulpher Creek Marina; 3498 Sulpher Creek Road, Burkesville, KY 42717, 270-433-7272, 24 hours daily (self service), 10′ draft

(E) Hendricks Creek Marina; 945 Hendricks Creek Road, Burkesville, KY 42717, 270-433-7172, 8 a.m.-5 p.m. 7 days/week, 10′ draft

(F) Wisdom Marina; Rt. 2, Box 220, Albany, KY 42602, 606-387-5841, 8 a.m.-5 p.m. 7 days/week, floating barge—mobile pumpout

(G) Wolf River Marina; Rt. 2, Box 751, Albany, KY 42602, 606-387-5841, 7 a.m.-7 p.m. weekdays, 7 a.m.-9 p.m. weekends, 25′ draft

(H) Eagle′s Cove Marina; 5899 Eagle Cove Road, Byrdstown TN, 38549, 931-864-3456, 7 a.m.-8 p.m. 7 days/week, 15′ draft

(I) Star Point Marina; 4490 Star Point Road, Byrdstown TN 38549, 931-864-3115, 6 a.m.-6 p.m. 7 days/week, 15′ draft

(J) Sunset Marina; 2040 Sunset Dock Road, Hwy 111, Byrdstown, TN 38549, 931-864-3146, 6 a.m.-p.m. 7 days/week, 40′ draft

(K) East Port Marina; 5652 East Port Road, Alpine, TN 38543, 931-879-7511, 7 a.m.-8 p.m. 7 days/week, 11′ draft

(L) Willow Grove Marina; 9990 Willow Grove Hwy., Allons, TN 38541, 931-823-6616, 7 a.m.-8 p.m. 7 days/week, 15′draft and mobile barge

(M) Livingston Marina; 1260 Livingston Boat Dock Road, Allons, TN 38541, 931-823-6666, 8 a.m.-5 p.m. 7 days/week, floating barge—mobile pumpout

(N) Horse Creek Marina; 1150 Horse Creek Road, Celina, TN 38551, 931-243-2125, 24 hours daily, seven days weekly (self service), 10′ draft

(O) Dale Hollow Lake State Resort Park; 6371 State Park Road, Burkesville, KY 42717, 270-433-7431, 8 a.m.-6 p.m. weekdays, 8 a.m.-8 p.m. weekends, 24′ draft

All vessel pumpout facilities that are described either discharge into State approved and regulated septic tanks or State approved on-site waste treatment plants, or the waste is collected into a large holding tank for transport to a sewage treatment plant. Thus, all vessel sewage will be treated to meet existing standards for secondary treatment.

Estimates based on a survey conducted of Dale Hollow Lake marina managers and owners in regard to the number of boats equipped with U.S. Coast Guard-approved Marine Sanitation Devices (MSD) result in 68 boats. This would result in a ratio of 4.5 boats with MSDs per pumpout facility. Dale Hollow Lake's shoreline management plan does not permit private docks. Altogether, there are a total of 2,663 boat slips located at the 15 Dale Hollow Lake marinas. Of that overall total, 453 are houseboat slips, and 385 of these are houseboats which have holding tanks (subtracting the 68 boats mentioned above, which have MSDs). This results in a ratio of 26 boats with holding tanks per pumpout facility.

J.I. Palmer, Jr.,
Regional Administrator, Region 4.

[FR Doc. E6-16290 Filed 10-2-06; 8:45 am]

BILLING CODE 6560-50-P